DEPARTMENT OF COMMERCE

International Trade Administration

[Application No. 19-2A001]

Export Trade Certificate of Review

ACTION: Notice of issuance of an amended Export Trade Certificate of Review to National Pecan Shellers Association, application number 19-2A001.

SUMMARY: The Secretary of Commerce, through the Office of Trade and Economic Analysis (OTEA), issued an Export Trade Certificate of Review (Certificate) to National Pecan Shellers Association (NPSA) on July 27, 2023.

FOR FURTHER INFORMATION CONTACT: Joseph Flynn, Director, OTEA, International Trade Administration, by telephone at (202) 482-5131 (this is not a toll-free number) or email at etca@trade.gov.

SUPPLEMENTARY INFORMATION: Title III of the Export Trading Company Act of 1982 (15 U.S.C. 4011-21) (“the Act”) authorizes the Secretary of Commerce to issue Export Trade Certificates of Review. An Export Trade Certificate of Review protects the holder and the members identified in the Certificate from State and Federal government antitrust actions and from private treble damage antitrust actions for the export conduct specified in the Certificate and carried out in compliance with its terms and conditions. The regulations implementing title III are found at 15 CFR part 325. OTEA is issuing this notice pursuant to 15 CFR 325.6(b), which requires the Secretary of Commerce to publish a summary of the certification in the Federal Register. Under section 305(a) of the Act and 15 CFR 325.11(a), any person aggrieved by the Secretary's determination may, within 30 days of the date of this notice, bring an action in any appropriate district court of the United States to set aside the determination on the ground that the determination is erroneous.

Description of Certified Conduct

NPSA's Export Trade Certificate of Review was amended as follows:

1. Added the following entities as new exporting Members of the Certificate within the meaning of section 325.2(l) of the Regulations (15 CFR 325.2(l)):

• HNH Nut Company, Visalia, CA

• Humphrey Pecan LLC, San Antonio, TX

• John B. Sanfilippo & Son, Inc., Elgin, IL

• Pecan Star & Nut Corp, San Antonio, TX

• Southern Roots Nut Company, LLC, Las Cruces, NM

2. Dropped the following entities as Members:

• Green Valley Company, Sahuarita, Arizona

• Chase Farms, LLC, Artesia, New Mexico

3. Amended the Terms and Conditions to clarify that the Independent Third Party will not disclose information provided by an Exporting Member to any person, except that it may disclose the information as aggregated to the Exporting Members involved in the transaction.

Updated List of Members

Exporting Members

• Arnco, Inc. dba Carter Pecan, Panama City Beach, Florida

• Chase Pecan, LP, San Saba, Texas

• Diamond Foods, LLC, Stockton, California

• Easterlin Pecan Co, Montezuma, Georgia

• HNH Nut Company, Visalia, CA

• Hudson Pecan Co., Inc., Ocilla, Georgia

• Humphrey Pecan LLC, San Antonio, TX

• John B. Sanfilippo & Son, Inc., Elgin, IL

• La Nogalera USA Inc., El Paso, Texas

• Lamar Pecan Company, Hawkinsville, Georgia

• Navarro Pecan Company, Corsicana, Texas

• Pecan Grove Farms, Dallas, Texas

• Pecan Star & Nut Corp, San Antonio, TX

• South Georgia Pecan Company, Valdosta, Georgia

• Southern Roots Nut Company, LLC, Las Cruces, NM

Non-Exporting Members

• Pecan Export Trade Council, Atlanta, Georgia

• The Kellen Company, Atlanta, Georgia (Independent Third Party)

The effective date of the amended certificate is January 12, 2023, the date on which NPSA's application to amend was deemed submitted.

Dated: August 11, 2023.
Joseph Flynn,
Director, Office of Trade and Economic Analysis, International Trade Administration, U.S. Department of Commerce.

[FR Doc. 2023-17665 Filed 8-16-23; 8:45 am]

BILLING CODE 3510-DR-P